FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Pacific Groupage Services, Inc., 9024 Foxwood Drive, Keller, TX 76248. Officers: Michael L. Hayhurst, Vice President (Qualifying Individual), Yatendra Malhotra, President.

Cargonline (USA) Inc., 245 E. Main Street, #112, Alhambra, CA 91801. Officers: Stephen Ming-Hong Kiang, Vice President (Qualifying Individual), Wailun Hon, President.

Kardel Enterprises Inc. dba Pakya, 1557 NW 82nd Avenue, Doral, FL 33126. Officers: Martha S. Ramos, General Manager (Qualifying Individual), Margarita Levis, President.

Driver's Diversified, Inc. dba Double D Logistics, Inc., P.O. Box 208, Stony Ridge, OH 43463. Officers: James R. Jacobs, President, John J. Ertle, Vice President (Qualifying Individuals).

Ocean Star Logistics Inc., 2200 South Fremont Ave., Suite 202, Alhambra, CA 91803, Janet Li, President (Qualifying Individual).

Neptune Shipping Limited dba Novalink Logistics, 1223 S. Monterey Street, Alhambra, CA 91801. Officers: Yao Yao Guo, Vice President (Qualifying Individual), Xucai Xu, President.

Pacific Delta Lines, Inc., 4733 Torrance Blvd., Ste. 168, Torrance, CA 90503. Officers: Waingan Woo, Secretary (Qualifying Individual), Wanlan Zhang, President.

United Marine Management, 20160 Paseo Del Pardo, Ste. H, Walnut, CA 91789. Officer: Yanli (Yvonne) Y. Liu, President (Qualifying Individual).

Non-Vessel Operating Common Carrier and Ocean Freight Forwarder Transportation Intermediary Applicants

KYN International Inc., 11700 NW 101st Road, Ste. 6, Miami, FL 33178. Officers: Noel Quintana, President (Qualifying Individual), Kelsy Quintana, Vice President.

Panorama Services & Travel Corp., 10510 W. Flagler Street, Miami, FL 33174. Officers: Norman Ali, Uriarte, General Manager (Qualifying Individual), Norman Aly Uriarte, President.

Ambert Inc. dba Afreican Express Lines, 249 Merrifield Avenue, Oceanside NY 11572. Officer: Selina Megertichian-Feinstein, President (Qualifying Individual).

Joker Logistics (USA) Inc., 11200 Metro Airport Center Dr., Ste. 100, Romulus, MI 48174. Officers: Daniel Hradetzky, Vice President (Qualifying Individual), Roland Mischke, Managing Director.

Glovis America, Inc., 1665 Scenic Avenue, Ste. 250, Costa Mesa, CA 92626. Officers: Tae Woo Kim, Vice President (Qualifying Individual), ChiwoongKim, CEO.

Ocean Freight Forwarder—Ocean Transportation Intermediary Applicants

FA Logistics International Corp., 6995 NW 82nd Avenue, Miami, FL 33166. Officer: Franklin Almeida, President (Qualifying Individual).

JAV Cargo, Inc., 4249 Remo Crescent Drive, Bensalem, PA 19020. Officer: John Allen Bustamante Villarin, President (Qualifying Individual).

Manns Freight Systems, Inc. dba Guardian Global Transport, 2440 Enterprise Drive, Mendota Heights, MN 55120. Officers: Mike Sweeney, Secretary (Qualifying Individual), Alan Meehan, President.

Apac Logistic Transportation, 840 Hinckley Road, #138, Burlingame, CA 94010. Officers: Pei-Qing Gu, Vice President (Qualifying Individual), Sylvia Mortgat, President.

Continuum International Logistics, Inc., 61 Gray's Bridge Road, Brookfield, CT 06877. Officers: Steven Hitchcock, President (Qualifying Individual), John McAuliffe, C-President.

Automated Cargo Transport Service, Inc. dba ACTS, 9 Barkentine Road, Rancho Palos Verdes, CA 90275. Officer: Richard Alton Schleicher, CEO (Qualifying Individual).

Dated: October 11, 2007.
Bryant L. VanBrakle,
Secretary.

[FR Doc. E7-20412 Filed 10-16-07; 8:45 am]

BILLING CODE 6730-01-P